DEPARTMENT OF ENERGY

Federal Energy Regulatory Commission

[Docket No. EG01-138-000, et al.]

Perryville Energy Partners, L.L.C., et al.; Electric Rate and Corporate Regulation Filings

March 8, 2001.

Take notice that the following filings have been made with the Commission:

1. Perryville Energy Partners, L.L.C.

[Docket No. EG01-138-000]

Take notice that on March 5, 2001, Perryville Energy Partners, L.L.C., (Applicant) a Delaware limited liability company, with its principal office located at 11140 North Highway 165, Sterlington, Louisiana 71280, filed with the Federal Energy Regulatory Commission (Commission) an Application for determination of exempt wholesale generator status pursuant to part 365 of the Commission's regulations and Section 32 of the Public Utility Holding Company Act of 1935, as amended.

Applicant is a Delaware limited liability company and is an indirect subsidiary of Cleco Corporation and an indirect subsidiary of the Southern Company. Applicant is developing both a simple and combined cycle gas fueled generating plant with a nominal 726 MW net capacity in Ouachita Parish, Louisiana, near the City of Perryville (the Facility) and will make sales of electric energy and capacity at wholesale from that Facility.

Copies of the Application have been served upon the Louisiana Public Service Commission and the Securities and Exchange Commission.

Comment date: March 29, 2001, in accordance with Standard Paragraph E at the end of this notice. The Commission will limit its consideration of comments to those that concern the adequacy or accuracy of the application.

2. Axia Energy, L.P. v. Southwest Power Pool

[Docket No. EL01-46-000]

Take notice that on March 6, 2001, Axia Energy, L.P. (Axia) tendered for filing a complaint against the Southwest Power Pool (SPP) alleging a violation of Axia's right of first refusal under section 2.2 of the SPP's Open Access Transmission Tariff.

Comment date: March 21, 2001, in accordance with Standard Paragraph E at the end of this notice.

3. Lockport Energy Associates, L.P.

[Docket No. EL01-48-000]

Take notice that on March 5, 2001, Lockport Energy Associates, L.P. (LEA) tendered for filing a petition for declaratory order. LEA requests an order declaring that its qualifying facility (QF) status maintained under the Public Utility Regulatory Policies Act of 1978 (PURPA) will not be jeopardized if its affiliate, Lockport Merchant Associates, LLC (LMA), constructs, owns and operates one or two 47 MW gas-fired single cycle combustion turbines on land adjacent to LEA's facility and utilizes LEA's electric interconnection facilities, gas pipeline distribution facilities, water and sewer lines, and control room facilities and personnel. In addition, LEA requests that the Commission find that it need not file an Open Access Transmission Tariff if it allows LMA to use its electric interconnection facilities.

A copy of this filing was served upon the New York State Public Service Commission and New York State Electric & Gas Corporation.

Comment date: April 4, 2001, in accordance with Standard Paragraph E at the end of this notice.

4. Carolina Power & Light Company

[Docket No. ER01-1371-000]

Take notice that on March 2, 2001, Carolina Power & Light Company (CP&L) tendered for filing an executed Service Agreement with Aquila Energy Marketing Corporation under the provisions of CP&L's Market-Based Rates Tariff, FERC Electric Tariff No. 4. This Service Agreement supersedes the un-executed Agreement originally filed in Docket No. ER98-3385-000 and approved effective May 18, 1998.

CP&L is requesting an effective date of February 5, 2001 for this Agreement.

Copies of the filing were served upon the North Carolina Utilities Commission and the South Carolina Public Service Commission.

Comment date: March 23, 2001, in accordance with Standard Paragraph E at the end of this notice.

5. Cogen Lyondell, Inc., Cogen Power, Inc., Oyster Creek Limited, Dynegy Power Corp., AES Deepwater, Inc., Baytown Energy Center, L.P., Channel Energy Center, L.P., Clear Lake Cogeneration, L.P., Corpus Christi Cogeneration, L.P., Pasadena Cogeneration, L.P., Texas City Cogeneration, L.P., Calpine Corporation, Conoco, Inc., The Dow Chemical Company, Gregory Power Partners, L.P.

[Docket No. EL01-49-000]

Take notice that on March 5, 2001, Cogen Lyondell, Inc., et al. tendered for filing pursuant to Rule 207, 18 CFR 385.207, a petition for a declaratory order regarding the impact of Section 210 of the Public Utility Regulatory Policies Act of 1978 on certain utility restructurings in Texas.

Comment date: March 30, 2001, in accordance with Standard Paragraph E at the end of this notice.

6. PJM Interconnection, L.L.C.

[Docket No. ER01-1115-001]

Take notice that on March 5, 2001, PJM Interconnection, L.L.C. (PJM) submitted for filing (1) an amended Notice of Cancellation of the Interconnection Agreement Between The NYPP Group And The PJM Group designated as PJM Group Rate Schedule FERC No. 5 and also as NYPP Group Rate Schedule FERC No. 3, specifying that the supplement to the agreement designated as Pennsylvania-New Jersey-Maryland Interconnection Supplement No. 2 to Rate Schedule FERC No. 5, New York Power Pool Supplement No. 8 to Rate Schedule FERC No. 3, and Consolidated Edison Company of New York, Inc. Rate Schedule FERC No. 128 referred to as the PARS Facilities Agreement is not cancelled and remains in effect; and (2) an amended Unscheduled Transmission Agreement revising the termination provision to allow either party to terminate the agreement upon six months written notice to the other party or by mutual agreement in writing.

Copies of this filing were served upon all PJM and NYISO members, all parties listed on the service list compiled by the Secretary in this docket, and the state electric utility regulatory commissions within the PJM control area and the NYISO.

Comment date: March 26, 2001, in accordance with Standard Paragraph E at the end of this notice.

7. Southern Company Services, Inc.

[Docket No. ER01-1380-000]

Take notice that on March 2, 2001, Southern Company Services, Inc. (SCSI), acting as agent for Alabama Power Company, Georgia Power Company, Gulf Power Company, Mississippi Power Company, Savannah Electric and Power Company and Southern Power Company (collectively referred to as the Operating Companies), submitted for filing revisions to the Southern Company System Intercompany Interchange Contract (IIC) dated February 17, 2000 and the Operating Companies' Market Based Rate Power Sales Tariff (Market Rate Tariff). The revisions submitted merely reflect that the new Operating Company contemplated in the previously-accepted IIC and Market Rate Tariff has been formally named “Southern Power Company.”

Comment date: March 23, 2001, in accordance with Standard Paragraph E at the end of this notice.

8. AES Medina Valley Cogen, L.L.C.

[Docket No. ER01-1381-000]

Take notice that on March 2, 2001, AES Medina Valley Cogen, L.L.C. (AES Medina) tendered for filing an application for waivers and blanket approvals under various regulations of the Commission and for an order accepting its FERC Electric Rate Schedule No. 2. AES Medina proposes that its Rate Schedule No. 2 become effective upon commencement of service of its 40 MW generation project located in Mossville, Illinois (the Medina Facility). The Medina Facility is expected to be commercially operable by April 1, 2001.

AES Medina intends to sell energy and capacity from the Medina Facility in the wholesale power market at market-based rates, and on such terms and conditions to be mutually agreed to with the purchasing party.

Comment date: March 23, 2001, in accordance with Standard Paragraph E at the end of this notice.

9. Avista Corporation

[Docket No. ER01-1393-000]

Take notice that on March 5, 2001, Avista Corporation (AVA), tendered for filing with the Federal Energy Regulatory Commission pursuant to section 35.12 of the Commissions, 18 CFR 35.12, an executed Service Agreement, Exhibit A, to be assigned Rate Schedule No. 287 for Avista Corporation under AVA's FERC Electric Tariff First Revised Volume No. 9, with Public Utility District No. 1 of Douglas County.

AVA requests that the Service Agreement be effective February 26, 2001.

Notice of the filing has been served upon the following: Mr. Charles E. Wagers, Jr., Power Planning and Contracts Administrator, Public Utility District No. 1 of Douglas County, 1151 Valley Mall Parkway, East Wenatchee, WA 98802-4497.

Comment date: March 26, 2001, in accordance with Standard Paragraph E at the end of this notice.

10. Enron Energy Services, Inc.

[Docket No. ER01-1394-000]

Take notice that on March 5, 2001, Enron Energy Services, Inc. (EES) tendered for filing an application for waivers and blanket approvals under various regulations of the Commission and for an order accepting EES's Electric Rate Schedule FERC No. 3 (Rate Schedule) to be effective upon issuance of the Commission's order accepting the Rate Schedule.

EES submits for filing its Rate Schedule under which EES may purchase energy or capacity and energy from small independent power producers meeting certain specified requirements.

Comment date: March 26, 2001, in accordance with Standard Paragraph E at the end of this notice.

[Docket No. ER01-1395-000]

11. Allegheny Energy Service Corporation, on Behalf of West Penn Power Company (Allegheny Power) and Pennsylvania Power Company (FirstEnergy)

Take notice that on March 5, 2001, Allegheny Energy Service Corporation on behalf of West Penn Power Company (Allegheny Power) and Pennsylvania Power Company (FirstEnergy), filed a Reconductoring Agreement (Agreement) as Service Agreement No. 344 under Allegheny Power's Open Access Transmission Tariff and as Service Agreement No. 300 under American Transmission Systems Inc.'s Open Access Transmission Tariff.

The proposed effective date under the Agreement is February 1, 2001.

Copies of the filing have been provided to the Public Utilities Commission of Ohio, the Pennsylvania Public Utility Commission, the Maryland Public Service Commission, the Virginia State Corporation Commission, and the West Virginia Public Service Commission.

Comment date: March 26, 2001, in accordance with Standard Paragraph E at the end of this notice.

12. Enron Power Marketing, Inc.

[Docket No. ER01-1396-000]

Take notice that on March 5, 2001, Enron Power Marketing, Inc. (EPMI) tendered for filing an application for waivers and blanket approvals under various regulations of the Commission and for an order accepting EPMI's Electric Rate Schedule FERC No. 46 (Rate Schedule) to be effective upon issuance of the Commission's order accepting the Rate Schedule.

EPMI submits for filing its Rate Schedule under which EPMI may purchase energy or capacity and energy from small independent power producers meeting certain specified requirements.

Comment date: March 26, 2001, in accordance with Standard Paragraph E at the end of this notice.

13. Perryville Energy Partners, L.L.C.

[Docket No. ER01-1397-000]

Take notice that on March 5, 2001, Perryville Energy Partners, L.L.C. (PEP) tendered for filing pursuant to Rule 205, 18 CFR 385.205, a petition for waivers and blanket approvals under various regulations of the Commission and for an order accepting its FERC Electric Rate Schedule No. 1 authorizing PEP to make sales at market-based rates. PEP has requested waiver of the Commission's regulations to permit an effective date of sixty days from the date of this filing.

PEP intends to sell electric power and ancillary services at wholesale. In transactions where PEP sells electric power or ancillary services it proposes to make such sales on rates, terms, and conditions to be mutually agreed to with the purchasing party. Rate Schedule No. 1 provides for the sale of energy and capacity and ancillary services at agreed prices.

Comment date: March 26, 2001, in accordance with Standard Paragraph E at the end of this notice.

14. New England Power Pool

[Docket No. ER01-1398-000]

Take notice that on March 5, 2001, the New England Power Pool (NEPOOL) Participants Committee submitted an informational filing concerning revisions to the NEPOOL Information Policy that permit FERC or its staff to obtain certain Participant Confidential Information directly from ISO-NE without first securing a FERC order.

The NEPOOL Participants Committee states that copies of these materials were sent to the NEPOOL Participants and the New England state governors and regulatory commissions.

Comment date: March 26, 2001, in accordance with Standard Paragraph E at the end of this notice.

15. Pacific Gas and Electric Company

[Docket No. ER01-1399-000]

Take notice that on March 5, 2001, Pacific Gas and Electric Company (PG&E) tendered for filing a Generator Special Facilities Agreement (GSFA) and a Supplemental Letter Agreement between Pacific Gas and Electric Company and Delta Energy Center (DEC)

The GSFA permits PG&E to recover the ongoing costs associated with owning, operating and maintaining the Special Facilities. As detailed in the Special Facilities Agreement, PG&E proposes to charge DEC a monthly Cost of Ownership Charge equal to the rate for Transmission-level, Customer-financed facilities in PG&Es currently effective Electric Rule 2, as filed with the Public Utilities Commission of the State of California (CPUC). PG&Es current effective rate of 0.31% for Transmission-level, Customer-financed Special Facilities is contained in the CPUC's Advise Letter 1960-G/1587-E, effective August 5, 1996, a copy of which is included as Attachment 2 of this filing

Copies of this filing have been served upon DEC and the CPUC.

Comment date: March 26, 2001, in accordance with Standard Paragraph E at the end of this notice.

16. Walton Electric Membership Corporation

[Docket No. ER01-1400-000]

Take notice that on March 5, 2001, Walton Electric Membership Corporation (Walton) tendered for filing its Initial Rate Filing consisting of a Power Supply and Energy Call Agreement by and between Williams Energy Marketing and Trading Company and The Walton Electric Membership Corporation. Walton also seeks waivers of certain Commission filing requirements and other regulations.

Comment date: March 26, 2001, in accordance with Standard Paragraph E at the end of this notice.

17. New England Power Pool

[Docket No. ER01-1401-000]

Take notice that on March 5, 2001, the New England Power Pool (NEPOOL) Participants Committee submitted revisions to Market Rules 1, 2 and Appendix 2-A, 3 and Appendix 3-A, 5, 6 and Appendix 6-A, 7, 8, and 9, relating to implementation of three-part bidding and Net Commitment Period Compensation.

It is requested that the revisions become effective on July 1, 2001.

The NEPOOL Participants Committee states that copies of these materials were sent to the NEPOOL Participants and the New England state governors and regulatory commissions.

Comment date: March 26, 2001, in accordance with Standard Paragraph E at the end of this notice.

18. UtiliCorp United Inc.

[Docket No. ER01-1402-000]

Take notice that on March 5, 2001, UtiliCorp United Inc. (UtiliCorp) tendered for filing Service Agreement No. 102 under UtiliCorp's FERC Electric Tariff, Third Revised Volume No. 25, a non-firm point-to-point transmission service agreement between UtiliCorp's WestPlains Energy-Kansas division and Service Agreement No. 107 under UtiliCorp's FERC Electric Tariff, Third Revised Volume No. 24 and Axia Energy, L.P.

UtiliCorp requests an effective date for the service agreement of February 23, 2001.

Comment date: March 26, 2001, in accordance with Standard Paragraph E at the end of this notice.

19. FirstEnergy Operating Companies

[Docket No. ER01-1403-000]

Take notice that on March 5, 2001, The Cleveland Electric Illuminating Company, Ohio Edison Company, Pennsylvania Power Company and The Toledo Edison Company (collectively, the FirstEnergy Operating Companies) tendered for filing proposed modifications to their FERC Electric Tariff, Original Volume No. 2 (the Market Based Rate Wholesale Power Sales Tariff). The FirstEnergy Operating Companies stated that the modifications to such tariff are designed primarily to facilitate the sales of Market Support Generation and Loss Free, Non-Market Support Generation to expedite development of retail electric generation markets in Ohio.

The FirstEnergy Operating Companies have proposed to the modifications effective on March 6, 2001.

Comment date: March 26, 2001, in accordance with Standard Paragraph E at the end of this notice.

20. Southern California Edison Company

[Docket No. ER01-1407-000]

Take notice that on March 6, 2001, Southern California Edison Company (SCE) tendered for filing a Service Agreement For Wholesale Distribution Service under SCE's Wholesale Distribution Access Tariff and an Interconnection Facilities Agreement (Agreements) between SCE and Sierra Power Corporation (Sierra Power).

These Agreements specify the terms and conditions under which SCE will interconnect Sierra Power's Terra Bella generating facility to its electrical system and provide Distribution Service for up to 8 MW of power produced by the generating facility.

Copies of this filing were served upon the Public Utilities Commission of the State of California and Sierra Power.

Comment date: March 27, 2001, in accordance with Standard Paragraph E at the end of this notice.

21. Carolina Power & Light Company

[Docket No. ER01-1412-000]

Take notice that on March 2, 2001, Carolina Power & Light Company (CP&L) filed a Service Agreement with Cinergy Services, Inc. under CP&L's market based rates Tariff, FERC Electric Tariff No. 4.

CP&L is requesting an effective date of April 1, 2001 for this agreement.

Copies of the filing were served upon the North Carolina Utilities Commission and the South Carolina Public Service Commission.

Comment date: March 23, 2001, in accordance with Standard Paragraph E at the end of this notice.

22. Avista Corp.

[Docket No. ER01-1413-000]

Take notice that on March 5, 2001, Avista Corp. (AVA) tendered for filing with the Federal Energy Regulatory Commission an executed Service Agreement for Long-Term Firm Point-To-Point Transmission Service under AVA's Open Access Transmission Tariff—FERC Electric Tariff, Volume No. 8 with Powerex.

AVA requests the Service Agreement be given a respective effective date of February 1, 2001.

Comment date: March 26, 2001, in accordance with Standard Paragraph E at the end of this notice.

23. Northern Lights Power Company

[Docket No. ER01-1414-000]

Take notice that on March 5, 2001, Northern Lights Power Company (NLPC) petitioned the Commission for acceptance of NLPC Rate Schedule FERC No. 1; the granting of certain blanket approvals, including the authority to sell electricity at market-based rates; and the waiver of certain Commission regulations.

NLPC intends to engage in wholesale electric power generation and energy purchases and sales as a marketer.

Comment date: March 26, 2001, in accordance with Standard Paragraph E at the end of this notice.

24. Michigan Electric Transmission Company

[Docket No. ES01-23-000]

Take notice that on March 1, 2001, Michigan Electric Transmission Company submitted an application pursuant to section 204 of the Federal Power Act requesting authorization to issue short-term debt in an amount not to exceed $10 million.

Comment date: March 28, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-6395 Filed 3-14-01; 8:45 am]

BILLING CODE 6717-01-P